OFFICE OF PERSONNEL MANAGEMENT

[3206-AL05]

5 CFR Part 950

Solicitation of Federal Civilian and Uniformed Service Personnel for Contributions to Private Voluntary Organizations—Eligibility and Public Accountability Standards

AGENCY: Office of Personnel Management.

ACTION: Final rule, Technical Amendment.

SUMMARY: The Office of Personnel Management (OPM) is making a technical amendment to the final regulations concerning the Combined Federal Campaign (CFC). This technical amendment corrects the final rule issued on November 20, 2006 by re-inserting text that was erroneously removed.

FOR FURTHER INFORMATION CONTACT: Mark W. Lambert by telephone at (202) 606-2564; by FAX at (202) 606-5056; or by e-mail at cfc@opm.gov.

DATES: This technical amendment is effective on February 9, 2007.

SUPPLEMENTARY INFORMATION: In the final regulations issued on November 20, 2006, OPM erroneously removed regulatory text in 5 CFR 950.203(a)(1) that had required a charitable organization applying to participate in the CFC to provide, in addition to its certification, “documentation describing the health and human welfare benefits provided by the organization within the previous year.” Although OPM has changed the manner in which it collects this documentation (as of 2007, it is included on the “Statement of Services” Attachment A to the application whereas in previous years it was a separate attachment to the application), OPM did not intend to remove the regulatory provision. As stated in the Supplementary Information to both the Proposed Rule, 71 FR 37003 (June 29, 2006) and the Final Rule, “no changes were proposed to this standard and it remains the same as the existing regulation.” 71 FR 67276, 67277 (November 20, 2006). The denotation “(a) * * *” regarding regulatory changes under section 950.203 Public Accountability Standards, similarly indicates OPM's intention to retain the provision at 5 CFR 950.203(a)(1) as it had previously existed. OPM believes that this documentation is an important requirement to ensure that only organizations that are currently providing human health and welfare services are admitted to participate in the CFC. As such, OPM is re-inserting this provision into the regulations via this technical amendment.

Regulatory Flexibility Act

I certify that this regulation will not have a significant economic impact on a substantial number of small entities. Charitable organizations applying to the CFC have an existing, independent obligation to comply with the eligibility and public accountability standards contained in current CFC regulations. This technical amendment will not cause significant additional burden.

List of Subjects in 5 CFR Part 950

Administrative practice and procedures, Charitable contributions, Government employees, Military personnel, Nonprofit organizations and Reporting and recordkeeping requirements.

Office of Personnel Management.
Linda M. Springer,
Director, U.S. Office of Personnel Management.

Accordingly, OPM amends 5 CFR part 950 as follows:

PART 950—SOLICITATION OF FEDERAL CIVILIAN AND UNIFORMED SERVICE PERSONNEL FOR CONTRIBUTIONS TO PRIVATE VOLUNTARY ORGANIZATIONS

1. The authority citation for part 950 continues to read as follows:

Authority: E.O. 12353 (March 23, 1982), 47 FR 12785 (March 25, 1982). 3 CFR, 1982 Comp., p. 139. E.O. 12404 (February 10, 1983), 48 FR 6685 (February 15, 1983), Pub. L. 100-202, and Pub. L. 102-393 (5 U.S.C. 1101 Note).

2. Amend § 950.203 to revise paragraph (a)(1) to read as follows:

§ 950.203 Public accountability standards.

(a) * * *

(1) Certify that the organization is a human health and welfare organization providing services, benefits, or assistance to, or conducting activities affecting, human health and welfare. The organization's application must provide documentation describing the health and human welfare benefits provided by the organization within the previous year.

* * * * *

[FR Doc. E7-2160 Filed 2-8-07; 8:45 am]

BILLING CODE 6325-46-P